DEPARTMENT OF HEALTH AND HUMAN SERVICES

Administration on Aging

[Program Announcement No. AoA-04-07]

Fiscal Year 2004 Program Announcement; Availability of Funds and Notice Regarding Applications

AGENCY: Administration on Aging, HHS.

ACTION: Announcement of availability of funds and request for applications for an Alzheimer's Disease Social Research Project.

SUMMARY: The Administration on Aging announces that under this program announcement it will hold a competition for a grant award for one (1) project at a federal share of $2,943,530.00 for a project period of one year. It is estimated that $2,943,530.00 will be available for this competition.

Legislative authority: The Older Americans Act, Public Law 106-501 (Catalog of Federal Domestic Assistance 93.048, Title IV and Title II, Discretionary Projects).

Purpose of grant award: The purpose of this project is to conduct social research into Alzheimer's disease care options, best practices and other Alzheimer's research priorities that include research into cause, cure, and care, as well as respite care, assisted living, the impact of intervention by social service agencies on persons with Alzheimer's disease, and related needs.

Eligibility for grant awards and other requirements: Eligibility for this grant award is limited to applicants designated by the Mayor of the municipality as officially representing a municipality with 1 million (1,000,000) or more persons 60 years of age and older. Preference will be given to the largest population. Priority will be given to applications that utilize and give discretion to Area Agencies on Aging and their nonprofit divisions. Applicants are encouraged to involve community-based organizations in the planning and implementation of their project. Applicants should include disadvantaged populations, including limited-English speaking populations, as a target population for their proposed intervention. Grantees are required to provide at least 25% percent of the total program costs from non-federal cash or in-kind resources in order to be considered for the award. Executive Order 12372 is not applicable to these grant applications.

Screening criteria: In order for an application to be reviewed it must meet the following screening requirements:

1. Postmark Requirements—Applications must be postmarked by midnight of the deadline date indicated below, or hand-delivered by 5:30 p.m. Eastern Time, on that date, or submitted electronically by midnight on that date.

2. Organizational Eligibility—Eligibility for grant award is limited to applications representing municipalities with aged populations (over the age of 60) of over 1,000,0000, with preference given to the largest population.

3. Project Narrative—It must be double-spaced on singled-sided 8.5” by 11” plain white paper with a 1” margin on each side and a font size of not less than 11. Applicants may use smaller font sizes to fill in the standard forms and sample formats. AoA will not accept applications with a project narrative that exceeds twenty pages, excluding the project work plan grid, letters of cooperation and vitae of key personnel.

Review of applications: Applications will be evaluated against the following criteria: Purpose and Need for Assistance (20 points); Approach/Method—Workplan and Activities (30 points); Outcomes/Evaluation/Dissemination (30 points); and Level of Effort (20 points).

DATES: The deadline date for the submission of applications is August 31, 2004.

ADDRESSES: Application kits are available by writing to the U.S. Department of Health and Human Services, Administration on Aging, Office of Community-Based Services, Washington, DC 20201, or by calling 202/357-3452, or online at http://www.grants.gov Applications may be mailed to the U.S. Department of Health and Human Services, Administration on Aging, Office of Grants Management, Washington, DC 20201, attn: Margaret Tolson (AoA-04-07).

Applications may be delivered to the U.S. Department of Health and Human Services, Administration on Aging, Office of Grants Management, One Massachusetts Avenue, NW., Room 4604, Washington, DC 20001, attn: Margaret Tolson (AoA-04-07).

If you elect to mail or hand deliver your application you must submit one original and two copies of the application; an acknowledgement card will be mailed to applicants.

Instructions for electronic mailing of grant applications are available at http://www.grants.gov.

SUPPLEMENTARY INFORMATION: All grant applicants are required to obtain a D-U-N-S number from Dun and Bradstreet. It is a nine-digit identification number, which provides unique identifiers of single business entities. The D-U-N-S number is free and easy to obtain from https://eupdate.dnb.com/requestoptions.html.

FOR FURTHER INFORMATION CONTACT: U.S. Department of Health and Human Services, Administration on Aging, Office of Grants Management, Washington, DC 20201, Telephone: (202) 357-3440.

Dated: July 19, 2004.
Josefina G. Carbonell,
Assistant Secretary for Aging.

[FR Doc. 04-16708 Filed 7-21-04; 8:45 am]

BILLING CODE 4154-01-P